ENVIRONMENTAL PROTECTION AGENCY

[FRL-9945-99-OA]

Notification of a Public Meeting and Public Teleconference of the Chartered Science Advisory Board

AGENCY: Environmental Protection Agency (EPA).

ACTION: Notice.

SUMMARY: The Environmental Protection Agency (EPA) Science Advisory Board (SAB) Staff Office announces a public meeting and a public teleconference of the chartered SAB to conduct a quality review of a draft SAB report on an assessment of potential impacts of hydraulic fracturing on drinking water resources and to receive briefings on topics of interest for possible future SAB advice.

DATES: The public meeting will be held on Tuesday, June 14, 2016, from 8:30 a.m. to 5:00 p.m. and Wednesday, June 15, 2016, from 8:30 a.m. to 1:00 p.m. The teleconference, if needed to accommodate registered public speakers, will be held on June 8, 2016 from 2:00 p.m. to 5:00 p.m. (Eastern Time).

ADDRESSES: The meeting will be held at the Westin Alexandria, 400 Courthouse Square, Alexandria, VA 22314.

FOR FURTHER INFORMATION CONTACT: Any member of the public who wants further information concerning the meeting may contact Mr. Thomas Carpenter, Designated Federal Officer (DFO), EPA Science Advisory Board (1400R), U.S. Environmental Protection Agency, 1200 Pennsylvania Avenue NW., Washington, DC 20460; via telephone/voice mail (202) 564-4885, or email at carpenter.thomas@epa.gov. General information concerning the SAB can be found on the EPA Web site at http://www.epa.gov/sab.

Technical Contact for EPA's Draft Report: Any technical questions concerning EPA's draft report, Assessment of the Potential Impacts of Hydraulic Fracturing for Oil and Gas on Drinking Water Resources (May 2015 External Review Draft, EPA/600/R-15/047), should be directed to Dr. Jeffrey Frithsen, National Center for Environmental Assessment, Office of Research and Development, U.S. EPA, 1200 Pennsylvania Avenue NW., Mail Code 8601P, Washington, DC 20460, telephone (703) 347-8623 or via email at frithsen.jeff@epa.gov.

SUPPLEMENTARY INFORMATION: Background: The SAB was established pursuant to the Environmental Research, Development, and Demonstration Authorization Act (ERDDAA), codified at 42 U.S.C. 4365, to provide independent scientific and technical advice to the Administrator on the scientific and technical basis for Agency positions and regulations. The SAB is a Federal Advisory Committee chartered under the Federal Advisory Committee Act (FACA), 5 U.S.C., App. 2. The SAB will comply with the provisions of FACA and all appropriate SAB Staff Office procedural policies. Pursuant to FACA and EPA policy, notice is hereby given that the SAB will hold a public meeting to discuss and deliberate on the topics below.

(1) Quality review of the SAB Draft 4-26-16 Review of EPA's draft Assessment of the Potential Impacts of Hydraulic Fracturing for Oil and Gas on Drinking Water Resources. The EPA's Office of Research and Development (ORD) requested the SAB to conduct a peer review of the draft assessment report concerning the relationship between hydraulic fracturing and drinking water in the United States. The purpose of the report, Assessment of the Potential Impacts of Hydraulic Fracturing for Oil and Gas on Drinking Water Resources (May 2015 External Review Draft, EPA/600/R-15/047), is to synthesize available scientific literature and data to assess the potential for hydraulic fracturing for oil and gas to impact the quality or quantity of drinking water resources, and identify factors affecting the frequency or severity of any potential impacts.

The SAB Hydraulic Fracturing Research Advisory Panel conducted a peer review of the EPA draft assessment and the chartered SAB will conduct a quality review of the panel's draft report. Quality review is a key function of the chartered SAB. Draft reports prepared by SAB committees, panels, or work groups must be reviewed and approved by the chartered SAB before transmittal to the EPA Administrator. Consistent with FACA, the chartered SAB makes a determination in a public meeting about each draft report and determines whether the report is ready to be transmitted to the EPA Administrator.

Background on the current advisory activity, Assessment of the Potential Impacts of Hydraulic Fracturing for Oil and Gas on Drinking Water Resources, can be found on the SAB Web site at https://yosemite.epa.gov/sab/sabproduct.nsf//LookupWebProjectsCurrentBOARD/F7A9DB9ABBAC015785257E540052DD54?OpenDocument.

(2) Briefings from representatives of the EPA and other EPA advisory Committees on topics of interest for possible future SAB advice.

If the SAB Staff Office determines that there will be insufficient time during the June 14-15, 2016 meeting to accommodate the members of the public who registered in advance to provide oral public comments, the teleconference will be held on June 8, 2016 to provide additional time for oral public comments.

Availability of Meeting Materials: A meeting agenda and other materials for the meeting will be placed on the SAB Web site at http://epa.gov/sab.

Procedures for Providing Public Input: Public comment for consideration by EPA's federal advisory committees and panels has a different purpose from public comment provided to EPA program offices. Therefore, the process for submitting comments to a federal advisory committee is different from the process used to submit comments to an EPA program office.

Federal advisory committees and panels, including scientific advisory committees, provide independent advice to the EPA. Members of the public can submit relevant comments pertaining to the EPA's charge, meeting materials, or the group providing advice. Input from the public to the SAB will have the most impact if it provides specific scientific or technical information or analysis for the SAB to consider or if it relates to the clarity or accuracy of the technical information. Members of the public wishing to provide comment should contact the DFO directly.

Oral Statements: In general, individuals or groups requesting an oral presentation at a public meeting will be limited to five minutes. Persons interested in providing oral statements at the June 14-15, 2016 meeting should contact Mr. Thomas Carpenter, DFO, in writing (preferably via email) at the contact information noted above by June 1, 2016 to be placed on the list of registered speakers. Written Statements: Written statements for the June 14-15, 2016 meeting should be received in the SAB Staff Office by June 7, 2016 so that the information can be made available to the SAB for its consideration prior to the meeting. Written statements should be supplied to the DFO at the contact information above via email (preferred) or in hard copy with original signature. Submitters are requested to provide a signed and unsigned version of each document because the SAB Staff Office does not publish documents with signatures on its Web sites. Members of the public should be aware that their personal contact information, if included in any written comments, may be posted to the SAB Web site. Copyrighted material will not be posted without explicit permission of the copyright holder.

Accessibility: For information on access or services for individuals with disabilities, please contact Mr. Carpenter at the phone number or email address noted above, preferably at least ten days prior to the meeting, to give the EPA as much time as possible to process your request.

Dated: April 27, 2016.
Thomas H. Brennan,
Deputy Director, EPA Science Advisory Board Staff Office.

[FR Doc. 2016-10392 Filed 5-2-16; 8:45 am]

BILLING CODE 6560-50-P